DEPARTMENT OF JUSTICE

Bureau of Prisons

28 CFR Part 522

[BOP-1113-P]

RIN 1120-AB13

Civil Contempt of Court Commitments: Revision to Accommodate Commitments Under the DC Code

AGENCY: Bureau of Prisons, Justice.

ACTION: Proposed rule.

SUMMARY: In this document, the Bureau of Prisons (Bureau) revises its rules on Civil Contempt of Court Commitments to include references to relevant DC Code provisions regarding civil contempt commitments. We make this revision to accommodate DC Code offenders in Bureau institutions or Bureau contract facilities under the National Capital Revitalization and Self-Government Improvement Act of 1997 (DC Revitalization Act), DC Code section 24-101(a) and (b). We also revise this rule to clarify existing provisions by using simpler organization and language. For further simplification, we remove language relating solely to internal agency practices and procedures. We do not, however, make any substantive changes to the current rules.

DATES: Comments are due by October 6, 2003.

ADDRESSES: Rules Unit, Office of General Counsel, Bureau of Prisons, 320 First Street, NW., Washington, DC 20534.

FOR FURTHER INFORMATION CONTACT: Sarah Qureshi, Office of General Counsel, Bureau of Prisons, phone (202) 307-2105.

SUPPLEMENTARY INFORMATION:

What Will This Rule Do?

Through this rule, the Bureau will revise its regulations in 28 CFR part 522, on Civil Contempt of Court Commitments (civil contempt commitments).

Why Are We Making This Rule?

We are making this rule to comply with the DC Revitalization Act, enacted August 5, 1997. This Act makes the Bureau responsible for the “custody, care, subsistence, education, treatment and training” of “the felony population sentenced pursuant to the District of Columbia Code” (DC Code offenders). (DC Code section 24-101 (a) and (b).)

As a result of absorbing approximately 8000 DC Code offenders, we revise our rules on Civil Contempt of Court Commitments to address DC Code offenders.

We also revise this rule to clarify existing provisions by using simpler organization and language. To clarify § 522.11, which is long and unnecessarily complex, we divided it into five separate rules with clearer headings. For further simplification, we remove language relating solely to internal agency practices and procedures. We do not, however, make any substantive changes to the current rules.

Where To Send Comments

You can send written comments on this rule to the Rules Unit, Office of General Counsel, Bureau of Prisons, 320 First Street, NW., Washington, DC 20534.

We will consider comments we receive during the comment period before we take final action. We will try to consider comments we receive after the end of the comment period. In light of comments we receive, we may change the rule.

We do not plan to have oral hearings on this rule. All the comments we receive remain on file for public inspection at the above address.

Executive Order 12866

This regulation has been drafted and reviewed in accordance with Executive Order 12866, “Regulatory Planning and Review”, section 1(b), Principles of Regulation. The Director of the Bureau of Prisons has determined that this rule is not a “significant regulatory action” under Executive Order 12866, section 3(f), and accordingly this rule has not been reviewed by the Office of Management and Budget.

Executive Order 13132

This regulation will not have substantial direct effects on the States, on the relationship between the national government and the States, or on distribution of power and responsibilities among the various levels of government. Under Executive Order 13132, this rule does not have sufficient federalism implications for which we would prepare a Federalism Assessment.

Regulatory Flexibility Act

The Director of the Bureau of Prisons, under the Regulatory Flexibility Act (5 U.S.C. 605(b)), reviewed this regulation. By approving it, the Director certifies that it will not have a significant economic impact upon a substantial number of small entities because: This rule is about the correctional management of offenders committed to the custody of the Attorney General or the Director of the Bureau of Prisons, and its economic impact is limited to the Bureau's appropriated funds.

Unfunded Mandates Reform Act of 1995

This rule will not cause State, local and tribal governments, or the private sector, to spend $100,000,000 or more in any one year, and it will not significantly or uniquely affect small governments. We do not need to take action under the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States based companies to compete with foreign based companies in domestic and export markets.

List of Subjects in 28 CFR Part 522

Prisoners.

Harley G. Lappin,
Director, Bureau of Prisons.

Under rulemaking authority vested in the Attorney General in 5 U.S.C. 552(a) and delegated to the Director, Bureau of Prisons, we amend 28 CFR part 522 as follows.

SUBCHAPTER B—INMATE ADMISSION, CLASSIFICATION, AND TRANSFER

PART 522—ADMISSION TO INSTITUTION

1. Revise the authority citation for 28 CFR part 522 to read as follows:

Authority: 5 U.S.C. 301; 18 U.S.C. 3568 (Repealed November 1, 1987 as to offenses committed on or after that date), 3585, 3621, 3622, 3624, 4001, 4042, 4081, 4082 (Repealed in part as to conduct occurring on or after November 1, 1987), 4161-4166, (repealed October 12, 1984, as to offenses committed on or after November 1, 1987), 5006-5024 (Repealed October 12, 1984 as to offenses committed after that date), 5039; 28 U.S.C. 509, 510; DC Code § 24-101(b).

2. Revise the table of contents for Subpart B, Civil Contempt of Court Commitments, to read as follows:

Sec.
522.10 What is the purpose of this subpart?
522.11 How do inmates come into Bureau custody for civil contempt commitments?
522.12 What happens if a criminal sentence imposed under either the U.S. or DC Code exists when a civil contempt commitment is ordered?
522.13 What happens if a civil contempt commitment order is in effect when a criminal sentence is imposed under the U.S. or DC Code?
522.14 How does the Bureau treat inmates serving civil contempt commitments?
522.15 Do inmates serving only civil contempt commitments receive good time credits?

3. Revise Subpart B, Civil Contempt of Court Commitments, to read as follows:

§ 522.10 What is the purpose of this subpart?

(a) This subpart describes the procedures for Federal civil contempt of court commitments (civil contempt commitments) referred to the Bureau of Prisons (Bureau). These cases are not commitments to the custody of the Attorney General for service of terms of imprisonment following criminal convictions.

(b) We cooperate with the Federal courts to implement civil contempt commitments by making our facilities and resources available. When we receive notification from the Federal court that the reason for the civil contempt commitment has ended or that the inmate is to be released for any other reason, we will terminate the inmate's civil contempt commitment.

§ 522.11 How do inmates come into Bureau custody for civil contempt commitments?

Inmates can come into Bureau custody for civil contempt commitments in two ways:

(a) The U.S. Marshals Service may request a designation from the Bureau for a civil contempt commitment if local jails are not suitable due to medical, security or other reasons; or

(b) The committing court may specify a Bureau institution as the place of incarceration in its contempt order. We will designate the facility specified in the court order unless there is a reason for not placing the inmate in that facility.

§ 522.12 What happens if a criminal sentence imposed under either the U.S. or DC Code exists when a civil contempt commitment is ordered?

If a criminal sentence imposed under the U.S. Code or DC Code exists when a civil contempt commitment is ordered, we delay or suspend credit towards service of the criminal sentence for the duration of the civil contempt commitment, unless the committing judge orders otherwise.

§ 522.13 What happens if a civil contempt commitment order is in effect when a criminal sentence is imposed under the U.S. or DC Code?

(a) Except as stated in (b), if a civil contempt commitment order is in effect when a criminal sentence of imprisonment is imposed under the U.S. or DC Code, the criminal sentence runs consecutively to the commitment order, unless the sentencing judge orders otherwise.

(b) For Federal criminal sentences imposed for offenses committed before November 1, 1987, under 18 U.S.C. Chapter 227: If a civil contempt commitment order is in effect when a criminal sentence of imprisonment is imposed, the criminal sentence runs concurrent with the commitment order, unless the sentencing judge orders otherwise.

§ 522.14 How does the Bureau treat inmates serving civil contempt commitments?

We treat inmates serving civil contempt commitments in Bureau institutions the same as pretrial inmates. If an inmate is serving a civil contempt commitment and a concurrent criminal sentence, we treat the inmate the same as a person serving a criminal sentence.

§ 522.15 Do inmates serving only civil contempt commitments receive good time sentence credit?

No. While serving only the civil contempt commitment, an inmate is not entitled to good time sentence credit.

[FR Doc. 03-19853 Filed 8-4-03; 8:45 am]

BILLING CODE 4410-05-P